DEPARTMENT OF DEFENSE

Office of the Secretary

Reestablishment of Department of Defense Federal Advisory Committee

AGENCY: DoD.

ACTION: Reestablishment of Federal Advisory Committee.

SUMMARY: Under the provisions of 50 U.S.C. 1903 and the Federal Advisory Committee Act of 1972 (5 U.S.C. Appendix, as amended), the Government in the Sunshine Act of 1976 (5 U.S.C. 552b) (“the Sunshine Act”), and 41 CFR 102-3.50(a), the Department of Defense (DoD) gives notice that it is reestablishing the charter for the National Security Education Board (“the Board”).

The Board is a non-discretionary Federal advisory committee that shall provide the Secretary of Defense with independent advice and recommendation on developing the national capacity to educate U.S. citizens to understand foreign cultures, strengthen U.S. economic competitiveness, and enhance international cooperation and security.

FOR FURTHER INFORMATION CONTACT: Jim Freeman, Advisory Committee Management Officer for the Department of Defense, 703-692-5952.

SUPPLEMENTARY INFORMATION: The Board, pursuant to 50 U.S.C. 1903(d) and consistent with Charter 37 of Title 50 U.S.C. shall perform the following functions:

a. Develop criteria for awarding scholarships, fellowships, and grants, including an order of priority in such awards that favors individuals expressing an interest in national security issues or pursuing a career in a national security position.

b. Provide for wide dissemination of information regarding the activities assisted under the statute.

c. Establish qualifications for students desiring scholarships or fellowships, and institutions of higher education desiring grants including, in the case of students desiring a scholarship or fellowship, a requirement that the students have a demonstrated commitment to the study of the discipline for which the scholarship or fellowship is to be awarded.

d. After taking into account the annual analyses of trends in language, international, area, and counter-proliferation studies under 50 U.S.C. 1906(b)(1), make recommendations to the Secretary of Defense regarding:

i. Which countries are not emphasized in other U.S. study abroad programs, such as countries in which few U.S. students are studying and countries which are of importance to the national security interests of the United States, and are, therefore, critical countries for the purposes of 50 U.S.C. 1902(a)(1)(A);

ii. Which areas within the disciplines described in 50 U.S.C. 1902(a)(1)(B) relating to the national security interests of the United States are areas of study in which U.S. students are deficient in learning and are, therefore, critical areas within those disciplines for the purposes of that section;

iii. Which areas within the disciplines described in 50 U.S.C. 1902(a)(1)(C) are areas in which U.S. students, educators, and Government employees are deficient in learning and in which insubstantial numbers of U.S. institutions of higher education provide training and are, therefore, critical areas within those disciplines for the purposes of that section;

iv. How students desiring scholarships or fellowships can be encouraged to work for an agency or office of the Federal Government involved in national security affairs or national security policy upon completion of their education; and

v. Which foreign languages are critical to the national security interests of the United States for purposes of 50 U.S.C. 1902(a)(1)(D) (relating to grants for the National Flagship Language Initiative) and 50 U.S.C. 1902(a)(1)(E) (relating to the scholarship program for advanced English language studies by heritage community citizens).

e. Encourage application for fellowships from graduate students having an educational background in any academic discipline, particularly in the area of science or technology.

f. Provide the Secretary of Defense biennially with a list of scholarship recipients and fellowship recipients, including an assessment of their foreign area and language skills, who are available to work in a national security position.

g. Not later than 30 days after a scholarship or fellowship recipient completes the study or education for which assistance was provided under the program, provide the Secretary of Defense with a report fully describing the foreign area and language skills obtained by the recipient as a result of the assistance.

h. Review the administration of the National Security Scholarships, Fellowships, and Grants Program.

The Board shall report to the Secretary of Defense. The Secretary of Defense, pursuant to 50 U.S.C. 1906, shall submit to the President and to the congressional intelligence committees an annual report of the conduct of the National Security Scholarships, Fellowships and Grants Program, which contains, at a minimum, the contents outlined in 50 U.S.C. 1906(b). In preparation of this annual report, the Secretary of Defense shall consult with the members of the Board, who shall each submit to the Secretary, as a minimum, an assessment of hiring needs in the areas of language and area studies, and a projection of the deficiencies in such areas. The Secretary shall include all assessments in the annual report.

The Department of Defense (DoD), through the Under Secretary of Defense for Personnel and Readiness (USD(P&R)), shall provide support as deemed necessary for the Board's performance, and shall ensure compliance with the requirements of FACA, the Government in the Sunshine Act of 1976 (5 U.S.C. 552b, as amended) (“the Sunshine Act”), governing Federal statutes and regulations, and established DoD policies and procedures.

Under the provisions of 50 U.S.C 1903(b), the Board shall be composed of 14 members:

a. The following individuals or the representatives of such individuals:

I. The Secretary of Defense, who shall serve as the Chairman of the Board.

II. The Secretary of Education.

III. The Secretary of State.

IV. The Secretary of Commerce.

V. The Secretary of Homeland Security.

VI. The Secretary of Energy.

VII. The Director of National Intelligence.

VIII. The Chairperson of the National Endowment for the Humanities.

b. Six individuals appointed by the President, who shall be experts in the fields of international, language, area, and counter-proliferation studies education and who may not be officers or employees of the Federal Government.

Members of the Board appointed by the President shall be appointed for a period specified by the President at the time of their appointment, but not to exceed four years.

Consistent with 50 U.S.C. 1903, the Secretary of Defense designates the USD(P&R) as the Chairperson of the Board. If the USD(P&R) is unavailable to chair a specific session of the Board, then the Assistant Secretary of Defense for Readiness and Force Management shall perform the functions of the Chairperson of the Board while the USD(P&R) is unavailable. The authority to chair the Board may not be further delegated.

Members of the Board who are not full-time or permanent part-time Federal employees shall be appointed as experts and consultants under the authority of 5 U.S.C. 3109 and serve as special Government employee (SGE) members. Each member of the Board is appointed to provide advice to the Government on the basis of his or her best judgment without representing any particular point of view and in a manner that is free from conflict of interest.

Pursuant to 50 U.S.C. 1903(c), individuals appointed by the President shall receive no compensation for service on the Board. All members of the Board shall receive per diem and travel for official travel relating to the Board.

DoD, when necessary and consistent with the Board's mission and DoD policies and procedures, may establish subcommittees, task groups, and working groups to support the Board. Establishment of subcommittees will be based upon a written determination, to include terms of reference, by the Secretary of Defense, the Deputy Secretary of Defense, or the USD(P&R). Such subcommittees shall not work independently of the Board, and shall report all of their recommendations and advice to the Board for full deliberation and discussion. Subcommittees have no authority to make decisions and recommendations, verbally, or in writing, on behalf of the Board; nor can any subcommittee or its members update or report directly to the DoD or any Federal officers or employees.

The Secretary or the Deputy Secretary of Defense may approve the appointment of subcommittee members for one-to-four year terms of service with annual renewals; however, no member, unless authorized by the Secretary, may serve more than two consecutive terms of service. These individuals may come from the parent committee or may be new nominees, as recommended by the USD(P&R) and based upon the subject matters under consideration.

Subcommittee members, if not full-time or part-time Government employees, shall be appointed to serve as experts and consultants under the authority of 5 U.S.C. 3109, and shall serve as SGEs, whose appointments must be renewed by the Secretary of Defense on an annual basis. With the exception of travel and per diem for official travel related to the Board or its subcommittee, subcommittee members shall serve without compensation.

Each subcommittee member is appointed to provide advice to the Government on the basis of his or her best judgment without representing any particular point of view an in a manner that is free from conflict of interest.

All subcommittees operate under the provisions of FACA, the Sunshine Act, governing Federal statutes and regulations, and governing DoD policies and procedures.

The Board shall meet at the call of the Board's Designated Federal Officer (DFO), in consultation with Board's Chairperson. The estimated number of meetings is three per year.

The Board's DFO is required to be in attendance at all meetings of the Board and its subcommittees for the entire duration of each and every meeting. However, in the absence of the Board's DFO, a properly approved Alternate DFO, duly appointed to the Board according to DoD policies and procedures, shall attend the entire duration of all meetings of the Board and its subcommittees.

The DFO, or the Alternate DFO, shall call all meetings of the Board and its subcommittees; prepare and approve all meeting agendas; and adjourn any meeting when the DFO or Alternate DFO determines adjournment to be in the public interest or required by governing regulations or DoD policies and procedures.

Pursuant to 41 CFR 102-3.105(j) and 102-3.140, the public or interested organizations may submit written statements to the National Security Education Board membership about the Board's mission and functions. Written statements may be submitted at any time or in response to the stated agenda of planned meeting of National Security Education Board.

All written statements shall be submitted to the Designated Federal Officer for the National Security Education Board, and this individual will ensure that the written statements are provided to the membership for their consideration. Contact information for the National Security Education Board's DFO can be obtained from the GSA's FACA Database— https://www.fido.gov/facadatabase/public.asp.

The DFO, pursuant to 41 CFR 102-3.150, will announce planned meetings of the National Security Education Board. The DFO, at that time, may provide additional guidance on the submission of written statements that are in response to the stated agenda for the planned meeting in question.

Dated: February 8, 2013.
Aaron Siegel,
Alternate OSD Federal Register Liaison Officer, Department of Defense.

[FR Doc. 2013-03370 Filed 2-14-13; 8:45 am]

BILLING CODE 5001-06-P